DEPARTMENT OF COMMERCE

National Oceanic and Atmospheric Administration

RIN 0648-XE947

Caribbean Fishery Management Council (CFMC); Public Meeting

AGENCY: National Marine Fisheries Service (NMFS), National Oceanic and Atmospheric Administration (NOAA), Commerce.

ACTION: Notice of a public meeting.

SUMMARY: The Caribbean Fishery Management Council's (Council) Outreach and Education Advisory Panel (OEAP) will meet in Puerto Rico.

DATES: The meeting will be held on November 17, 2016, from 10 a.m. to 4 p.m.

ADDRESSES: The meeting will be held at CFMC Office, 270 Muñoz Rivera Avenue, Suite 401 San Juan, Puerto Rico 00918.

FOR FURTHER INFORMATION CONTACT: Caribbean Fishery Management Council, 270 Muñoz Rivera Avenue, Suite 401, San Juan, Puerto Rico 00918, telephone: (787) 766-5926.

SUPPLEMENTARY INFORMATION: The OEAP will meet to discuss the items contained in the following agenda:

○ Call to Order

○ Adoption of Agenda

○ OEAP Chairperson's Report

• Status of:

○ Responsible Seafood Consumption Campaign

○ CFMC Report 157th Regular Meeting

○ 2017 Calendar

○ Fuete y Verguilla Issue Celebrating 40 Year of the Magnusson Stevens Act and the CFMC

○ Caribbean Fishery App

○ USVI Activities

○ Social Media for Council Communications with Stakeholders

○ PEPCO

○ MREP Caribbean

○ Island-Based Fisheries Management Plans (FMPs)

○ Other Business

The meeting is open to the public, and will be conducted in English. Fishers and other interested persons are invited to attend and participate with oral or written statements regarding agenda issues.

Special Accommodations

This meeting is physically accessible to people with disabilities. For more information or request for sign language interpretation and/other auxiliary aids, please contact Mr. Miguel A. Rolón, Executive Director, Caribbean Fishery Management Council, 270 Muñoz Rivera Avenue, Suite 401, San Juan, Puerto Rico, 00918, telephone (787) 766-5926, at least 5 days prior to the meeting date.

Dated: October 19, 2016.
Tracey L. Thompson,
Acting Deputy Director, Office of Sustainable Fisheries, National Marine Fisheries Service.

[FR Doc. 2016-25653 Filed 10-21-16; 8:45 am]

BILLING CODE 3510-22-P